NUCLEAR REGULATORY COMMISSION

[NRC-2025-0709]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by September 5, 2025. A request for a hearing or petitions for leave to intervene must be filed by October 6, 2025. This monthly notice includes all amendments issued, or proposed to be issued, from June 19, 2025, to July 17, 2025. The last monthly notice was published on July 8, 2025.

ADDRESSES: You may submit comments by any of the following methods; however, the NRC encourages electronic comment submission through the Federal rulemaking website.

• Federal rulemaking website: Go to https://www.regulations.gov and search for Docket ID NRC-2025-0709. Address questions about Docket IDs in Regulations.gov to Bridget Curran; telephone: 301-415-1003; email: Bridget.Curran@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001; telephone: 301-415-2242; email: Paula.Blechman@nrc.gov.

SUPPLEMENTARY INFORMATION:

I. Obtaining Information and Submitting Comments

A. Obtaining Information

Please refer to Docket ID NRC-2025-0709, facility name, unit number(s), docket number(s), application date, and subject when contacting the NRC about the availability of information for this action. You may obtain publicly available information related to this action by any of the following methods:

• Federal Rulemaking Website: Go to https://www.regulations.gov and search for Docket ID NRC-2025-0709.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0709, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the license amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053), and the NRC's public website (https://www.nrc.gov/about-nrc/regulatory/adjudicatory/hearing.html#participate).

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056), and on the NRC's public website (https://www.nrc.gov/site-help/e-submittals.html).

To comply with the procedural requirements of E-Filing, at least 10 days prior to the filing deadline, the participant should contact the Office of the Secretary by email at Hearing.Docket@nrc.gov, or by telephone at 301-415-1677, to: (1) request a digital identification (ID) certificate which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket is created, the participant must submit adjudicatory documents in the Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed in order to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless otherwise excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Clinton Power Station, Unit No. 1; DeWitt County, IL
Docket No | 50-461.
Application Date | June 26, 2025.
ADAMS Accession No | ML25177C292.
Location in Application of NSHC | Pages 7-8 of Attachment 1.
Brief Description of Amendment | The proposed amendment would change the Updated Safety Analysis Report (USAR) for Clinton Power Station, Unit No. 1 (CPS). The proposed change requests approval of an alternate method of verifying Main Steam Isolation Valve Closure Reactor Protection System Response Time (RPSRT) as an NRC-approved methodology. The CPS technical specification definition of RPSRT reads, “The RPS RESPONSE TIME shall be that time interval from when the monitored parameter exceeds its RPS trip setpoint at the channel sensor until de-energization of the scram pilot valve solenoids. The response time may be measured by means of any series of sequential, overlapping, or total steps so that the entire response time is measured. In lieu of measurement, response time may be verified for selected components provided that the components and methodology for verification has been previously reviewed and approved by the NRC.” CPS is requesting approval of an alternate method of generating an open trip signal via a test switch in the main control room as an NRC-approved methodology.
Proposed Determination | NSHC.
Name of Attorney for Licensee, Mailing Address | Jason Zorn, Associate General Counsel, Constellation Energy Generation, LLC, 4300 Winfield Road, Warrenville, IL 60555.
NRC Project Manager, Telephone Number | Beth Wetzel, 301-415-5223.
Constellation FitzPatrick, LLC and Constellation Energy Generation, LLC; James A. FitzPatrick Nuclear Power Plant; Oswego County, NY
Docket No | 50-333.
Application Date | May 29, 2025.
ADAMS Accession No | ML25149A172.
Location in Application of NSHC | Pages 7-9 of Attachment 1.
Brief Description of Amendment | The proposed amendment would remove Function 1.e, “Main Steam Line Tunnel Area Temperature—High,” and inserts the word “Deleted” in Table 3.3.6.1-1 “Primary Containment Isolation Instrumentation.” The proposed license amendment would also add a new Technical Specification 3.7.8, “Main Steam Tunnel (MST) Area Temperature.”
Proposed Determination | NSHC.
Name of Attorney for Licensee, Mailing Address | Jason Zorn, Associate General Counsel, Constellation Energy Generation, LLC, 101 Constitution Ave. NW, Suite 400 East, Washington, DC 20001.
NRC Project Manager, Telephone Number | Richard Guzman, 301-415-1030.
National Institute of Standards and Technology (NIST), National Bureau of Standards Test Reactor, Montgomery County, Maryland
Docket No | 50-184.
Application Date | May 28, 2025.
ADAMS Accession No | ML25150A403 (Package).
Location in Application of NSHC | Page 1 of ML25150A405.
Brief Description of Amendment | The proposed amendment would change the classification of the National Bureau of Standards Reactor from a testing facility to a research reactor. Specifically, this amendment would modify the TR-5 license and would eliminate facility license renewal in accordance with the Non-Power Production or Utilization Facility License Renewal Rule (89 FR 106234; December 30, 2024).
Proposed Determination | NSHC.
Name of Attorney for Licensee, Mailing Address | Lauren Didiuk, Acting Chief Counsel—National Institute of Standards and Technology, 100 Bureau Dr., Gaithersburg, MD 20899.
NRC Project Manager, Telephone Number | Justin Hudson, 301-287-0538.
NextEra Energy Seabrook, LLC; Seabrook Station, Unit No. 1; Rockingham County, NH
Docket No | 50-443.
Application Date | May 23, 2025.
ADAMS Accession No | ML25143A163.
Location in Application of NSHC | Pages 10-11 of the Enclosure.
Brief Description of Amendment | The proposed amendment would modify the Seabrook Station, Unit No. 1 licensing basis by revising Technical Specification (TS) Bases 3/4.8.1, A.C. [Alternating Current] Sources—Operating, to align with the available AC power source guidelines of Regulatory Guide 1.93. Specifically, changes are proposed to the applicability of select TS 3.8.1 ACTIONS associated with Unit Auxiliary Transformer and Reserve Auxiliary Transformer unavailability.
Proposed Determination | NSHC.
Name of Attorney for Licensee, Mailing Address | Steven Hamrick, Senior Attorney, 801 Pennsylvania Ave. NW, Suite 220, Washington, DC 20004.
NRC Project Manager, Telephone Number | Ricardo Lantigua, 301-415-5107.
Tennessee Valley Authority; Browns Ferry Nuclear Plant, Units 1, 2, and 3; Limestone County, AL
Docket Nos | 50-259, 50-260, 50-296.
Application Date | June 20, 2025.
ADAMS Accession No | ML25171A008.
Location in Application of NSHC | Pages E2-E4 of the Enclosure.
Brief Description of Amendments | The proposed amendments would revise the Browns Ferry Nuclear Plant, Units 1, 2, and 3 Technical Specification Limiting Condition for Operation (LCO) 3.0.3 to eliminate the requirement to enter Mode 2 and re-letter the remaining actions. The Tennessee Valley Authority has requested the proposed amendments in accordance with Technical Specification Task Force (TSTF) Traveler TSTF-597-A, “Eliminate LCO 3.0.3 Mode 2 Requirement.”
Proposed Determination | NSHC.
Name of Attorney for Licensee, Mailing Address | Rebecca Tolene, (Acting), Executive VP and General Counsel, Tennessee Valley Authority, 400 West Summit Hill Drive, WT 6A, Knoxville, TN 37902.
NRC Project Manager, Telephone Number | Kimberly Green, 301-415-1627.
Tennessee Valley Authority; Browns Ferry Nuclear Plant, Units 1, 2, and 3; Limestone County, AL
Docket Nos | 50-259, 50-260, 50-296.
Application Date | July 10, 2025.
ADAMS Accession No | ML25191A239.
Location in Application of NSHC | Pages E7-E9 of the Enclosure.
Brief Description of Amendments | The proposed amendments would revise the Browns Ferry Nuclear Plant, Units 1, 2, and 3, Technical Specification Surveillance Requirement 3.8.4.5 to modify the minimum battery charger amperage requirement for the direct current shutdown board subsystems.
Proposed Determination | NSHC.
Name of Attorney for Licensee, Mailing Address | Rebecca Tolene, (Acting), Executive VP and General Counsel, Tennessee Valley Authority, 400 West Summit Hill Drive, WT 6A, Knoxville, TN 37902.
NRC Project Manager, Telephone Number | Kimberly Green, 301-415-1627.
Virginia Electric and Power Company, Dominion Nuclear Company; North Anna Power Station, Unit Nos. 1 and 2; Louisa County, VA; Virginia Electric and Power Company; Surry Power Station, Unit Nos. 1 and 2; Surry County, VA
Docket Nos | 50-280, 50-281, 50-338, 50-339.
Application Date | May 16, 2025.
ADAMS Accession No | ML25136A297.
Location in Application of NSHC | Pages 36 to 40 of Enclosure 1 (North Anna) and Pages 37 to 39 of Enclosure 2 (Surry).
Brief Description of Amendments | The proposed amendments would update the Main Steam Line Break Alternate Source Term (MSLB AST) dose consequence analysis for North Anna Power Station, Unit Nos. 1 and 2, and Surry Power Station Unit Nos. 1 and 2, respectively. Specifically, the MSLB AST dose consequence analysis for each station has been revised to address extended cooldown timelines that could result from a stagnant Reactor Coolant System loop following a MSLB.
Proposed Determination | NSHC.
Name of Attorney for Licensee, Mailing Address | W.S. Blair, Senior Counsel, Dominion Energy Services, Inc., 120 Tredegar St., RS-2, Richmond, VA 23219.
NRC Project Manager, Telephone Number | John Klos, 301-415-5136.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Constellation Energy Generation, LLC; Braidwood Station, Units 1 and 2; Will County, IL
Docket Nos | 50-456, 50-457.
Amendment Date | June 18, 2025.
ADAMS Accession No | ML25135A157.
Amendment Nos | 241 (Unit 1); 241 (Unit 2).
Brief Description of Amendments | The amendments revised Technical Specification Surveillance Requirement 3.7.9.2 to allow an ultimate heat sink temperature of less than or equal to 102.8 degrees Fahrenheit until September 30, 2025.
Public Comments Received as to Proposed NSHC (Yes/No) | No.
Duke Energy Carolinas, LLC; Oconee Nuclear Station, Units 1, 2, and 3; Oconee County, SC
Docket Nos | 50-269, 50-270, 50-287.
Amendment Date | June 27, 2025.
ADAMS Accession No | ML25153A490.
Amendment Nos | 432 (Unit 1), 434 (Unit 2), 433 (Unit 3).
Brief Description of Amendments | The amendments revised Technical Specification 3.7.8, “Emergency Condenser Circulating Water (ECCW) System,” Surveillance Requirement 3.7.8.3 to reflect variable condenser circulating water inlet temperature limits.
Public Comments Received as to Proposed NSHC (Yes/No) | No.
Florida Power & Light Company, et al.; St. Lucie Plant, Unit Nos. 1 and 2; St. Lucie County, FL; Florida Power & Light Company; Turkey Point Nuclear Generating Unit Nos. 3 and 4; Miami-Dade County, FL; NextEra Energy Point Beach, LLC; Point Beach Nuclear Plant, Units 1 and 2; Manitowoc County, WI
Docket Nos | 50-250, 50-251, 50-266, 50-301, 50-335, 50-389.
Amendment Date | June 2, 2025.
ADAMS Accession No | ML25101A190.
Amendment Nos | 278 (Point Beach, Unit 1), 280 (Point Beach, Unit 2), 256 (St. Lucie Plant, Unit 1), 211 (St. Lucie Plant, Unit 2), 302 (Turkey Point, Unit 3), 296 (Turkey Point, Unit 4).
Brief Description of Amendments | The amendments revised technical specifications (TSs) to relocate the staff qualification requirements in TSs for Point Beach Nuclear Plant, Units 1 and 2, St. Lucie Plant, Unit Nos. 1 and 2, and Turkey Point Nuclear Generating, Unit Nos. 3 and 4, to the existing Florida Power and Light and NextEra Energy Quality Assurance Topical Report.
Public Comments Received as to Proposed NSHC (Yes/No) | No.
Indiana Michigan Power Company; Donald C. Cook Nuclear Plant, Units Nos. 1 and 2; Berrien County, MI
Docket Nos | 50-315, 50-316.
Amendment Date | July 7, 2025.
ADAMS Accession No | ML25161A095.
Amendment Nos | 366 (Unit 1); 347 (Unit 2).
Brief Description of Amendments | The amendments revised the Technical Specification (TS) 3.8.3, “Diesel Fuel Oil,” and Surveillance Requirement (SR) 3.8.3.1 (verification of fuel oil storage tank volume), by removing the current stored diesel fuel oil and lube oil numerical volume requirements and replacing them with duration-based diesel operating time requirements, consistent with Technical Specifications Task Force (TSTF) traveler TSTF-501, Revision 1, “Relocate Stored Fuel Oil and Lube Oil Volume Values to Licensee Control.” The amendments also revised TS 3.8.1, “AC [Alternating Current] Sources—Operating,” SR 3.8.1.4 to replace the specific day tank numerical volume requirements with a duration-based diesel operating time requirement.
Public Comments Received as to Proposed NSHC (Yes/No) | No.
NextEra Energy Point Beach, LLC; Point Beach Nuclear Plant, Units 1 and 2; Manitowoc County, WI
Docket Nos | 50-266, 50-301.
Amendment Date | July 8, 2025.
ADAMS Accession No | ML25125A116.
Amendment Nos | 279 (Unit 1), 281 (Unit 2).
Brief Description of Amendments | The amendments are related to Point Beach Nuclear Plant (Point Beach), Units 1 and 2 adoption of 10 CFR 50.69, “Risk-informed categorization and treatment of structures, systems and components for nuclear power reactors.” Specifically, the amendments modified the Point Beach, Unit 1, Renewed Facility Operating License (RFOL) License Condition 4.E and Point Beach, Unit 2, RFOL License Condition 4.E to allow the use of an alternative approach for evaluating seismic risk for categorization of structures, systems, and components under Point Beach's approved 10 CFR 50.69 program, and removes certain pre-program implementation items that have been completed. Additionally, the amendments made editorial corrections to Point Beach, Unit 1 License Condition 4.M and Point Beach, Unit 2 License Condition 4.L, “Additional Conditions,” Functions 5 and 6 on Technical Specification (TS) Table 3.3.1-1, and TS 5.5.18.h.
Public Comments Received as to Proposed NSHC (Yes/No) | No.
Southern Nuclear Operating Company, Inc.; Joseph M. Farley Nuclear Plant, Units 1 and 2; Houston County, AL
Docket Nos | 50-348, 50-364.
Amendment Date | June 18, 2025.
ADAMS Accession No | ML25125A303.
Amendment Nos | 254 (Unit 1), 251 (Unit 2).
Brief Description of Amendments | The amendments modified Joseph M. Farley Nuclear Plant, Units 1 and 2, technical specification requirements related to direct current (DC) electrical systems in accordance with Technical Specifications Task Force (TSTF) Traveler TSTF-500, Revision 2, “DC Electrical Rewrite-Update to TSTF-360.”
Public Comments Received as to Proposed NSHC (Yes/No) | No.
Southern Nuclear Operating Company, Inc.; Joseph M. Farley Nuclear Plant, Units 1 and 2; Houston County, AL
Docket Nos | 50-348, 50-364.
Amendment Date | July 1, 2025.
ADAMS Accession No | ML25150A342.
Amendment Nos | 255 (Unit 1), 252 (Unit 2).
Brief Description of Amendments | The amendments revised the Joseph M. Farley Nuclear Plant (Farley), Units 1 and 2, Updated Final Safety Analysis Report to provide gap release fractions for high burnup fuel rods that exceed the linear heat generation rate limit stated in Regulatory Guide (RG) 1.183, Revision 0, “Alternative Radiological Source Terms for Evaluating Design Basis Accidents at Nuclear Power Reactors.” Specifically, the amendments allow Farley, Units 1 and 2, to be excepted from Footnote 11 to Table 3, “Non-LOCA [Loss-of-Coolant-Accident] Gap Release Fractions,” of RG 1.183, Revision 0.
Public Comments Received as to Proposed NSHC (Yes/No) | No.
Southern Nuclear Operating Company, Inc.; Joseph M. Farley Nuclear Plant, Units 1 and 2; Houston County, AL
Docket Nos | 50-364, 50-348.
Amendment Date | July 16, 2025.
ADAMS Accession No | ML25171A116.
Amendment Nos | 256 (Unit 1) and 253 (Unit 2).
Brief Description of Amendments | The amendments revised Technical Specification (TS) 3.4.14, “RCS [Reactor Coolant System] Pressure Isolation Valve (PIV) Leakage,” Surveillance Requirement (SR) 3.4.14.3 Acceptance Criteria and removed other miscellaneous obsolete requirements found in TS 3.4.14, SR 3.4.14.2, and TS 3.3.5, “Loss of Power (LOP) Diesel Generator (DG) Start Instrumentation,” in addition to making editorial corrections resulting from these changes.
Public Comments Received as to Proposed NSHC (Yes/No) | No.
Tennessee Valley Authority; Sequoyah Nuclear Plant, Units 1 and 2; Hamilton County, TN
Docket Nos | 50-327, 50-328.
Amendment Date | June 23, 2025.
ADAMS Accession No | ML25112A334.
Amendment Nos | 372 (Unit 1) and 366 (Unit 2).
Brief Description of Amendments | The amendments revised Sequoyah Nuclear Plant, Units 1 and 2, fuel handling accident analysis to no longer credit containment penetration closure; revised Technical Specification (TS) 3.3.6, “Containment Ventilation Isolation Instrumentation,” by deleting Action B and Table 3.3.6-1, Specified Condition (a), and revising Surveillance Requirements 3.3.6.4 and 3.3.6.6; and deleted TS 3.9.4, “Containment Penetrations,” in its entirety.
Public Comments Received as to Proposed NSHC (Yes/No) | No.
Union Electric Company; Callaway Plant, Unit No. 1; Callaway County, MO
Docket No | 50-483.
Amendment Date | June 27, 2025.
ADAMS Accession No | ML25154A351.
Amendment No | 240.
Brief Description of Amendment | The amendment revised Technical Specification 5.5.19, “Risk Informed Completion Time Program,” by referencing Regulatory Guide (RG) 1.200, Revision 3, “Acceptability of Probabilistic Risk Assessment Results for Risk-Informed Activities,” instead of RG 1.200, Revision 2, based on Technical Specifications Task Force (TSTF) Traveler TSTF-591, Revision 0, “Revise Risk Informed Completion Time (RICT) Program” (ML22081A224), and the associated NRC staff safety evaluation of Traveler TSTF-591 (ML23262B230).
Public Comments Received as to Proposed NSHC (Yes/No) | No.

Dated: August 1, 2025.
For the Nuclear Regulatory Commission.
Jamie Pelton,
Acting Director, Division of Operating Reactor Licensing, Office of Nuclear Reactor Regulation.

[FR Doc. 2025-14886 Filed 8-5-25; 8:45 am]

BILLING CODE 7590-01-P